DEPARTMENT OF TRANSPORTATION

Federal Aviation Administration

14 CFR Part 39

[Docket No. FAA-2011-0691; Directorate Identifier 2011-NE-26-AD; Amendment 39-16909; AD 71-13-01R1]

RIN 2120-AA64

Airworthiness Directives; Lycoming Engines Reciprocating Engines

AGENCY: Federal Aviation Administration (FAA), DOT.

ACTION: Final rule; rescission.

SUMMARY: We are rescinding an airworthiness directive (AD) for Lycoming Engines model TIO-540-A series reciprocating engines. The existing AD, AD 71-13-01, was prompted by a report of a failed fuel injector tube assembly. Since we issued AD 71-13-01, we became aware that Lycoming Engines no longer supports Service Bulletin (SB) No. 335A, which was incorporated by reference in AD 71-13-01. The intent of the requirements of that SB is now in Lycoming Engines Mandatory SB No. 342F, which we have incorporated by reference into AD 2008-14-07. The FAA determined, therefore, that this requirement is duplicated by another AD.

DATES: This AD is effective March 8, 2012.

ADDRESSES: For service information identified in this AD, contact Lycoming, 652 Oliver Street, Williamsport, PA 17701; phone: (570) 323-6181; fax: (570) 327-7101; Web site: www.lycoming.com. You may review copies of the referenced service information at the FAA, Engine & Propeller Directorate, 12 New England Executive Park, Burlington, MA. For information on the availability of this material at the FAA, call (781) 238-7125.

Examining the AD Docket

You may examine the AD docket on the Internet at http://www.regulations.gov; or in person at the Docket Management Facility between9 a.m. and 5 p.m., Monday through Friday, except Federal holidays. The AD docket contains this AD, the regulatory evaluation, any comments received, and other information. The address for the Docket Office (phone: (800) 647-5527) is Document Management Facility, U.S. Department of Transportation, Docket Operations, M-30, West Building Ground Floor, Room W12-140, 1200 New Jersey Avenue SE., Washington, DC 20590.

FOR FURTHER INFORMATION CONTACT: Norm Perenson, Aerospace Engineer, New York Aircraft Certification Office, FAA, Engine & Propeller Directorate, 1600 Stewart Avenue, Suite 410, Westbury, NY 11590; phone: (516) 228-7337; fax: (516) 794-5531; email: Norman.perenson@faa.gov.

SUPPLEMENTARY INFORMATION:

Discussion

We issued a notice of proposed rulemaking (NPRM) to amend 14 CFR part 39 to rescind an AD that would apply to the specified products. That NPRM published in the Federal Register on July 19, 2011 (76 FR 42609). That NPRM proposed to rescind AD 71-13-01 (Amendment number is 39-1231; 36 FR 11512-03, June 15, 1971) for Lycoming Engines model TIO-540-A series reciprocating engines. That AD requires a one-time visual inspection of external fuel injector lines on Lycoming Engines model TIO-540-A series reciprocating engines for fuel stains, cracks, dents, and bend radii under ⅝ inch and, if necessary, removal from service and replacement with serviceable parts. That AD also requires installing, if necessary, fuel injector line support clamps in accordance with Lycoming Engines SB No. 335 or later version of that SB.

Since we issued AD 71-13-01 (Amendment number is 39-1231; 36 FR 11512-03, June 15, 1971), Lycoming Engines has informed us that it no longer supports SB No. 335A. They also pointed out that Lycoming Engines Mandatory SB No. 342F, dated June 4, 2010, or the Instructions for Continued Airworthiness section of the Engine Overhaul Manual is the service information that owners, operators, and certificated repair facilities must use for initial and repetitive visual inspections of external fuel lines on all affected Lycoming Engines reciprocating engines.

We incorporated by reference Lycoming Engines Mandatory SB No. 342E, dated May 18, 2004, into AD 2008-14-07 (73 FR 39574, July 10, 2008). We will supersede AD 2008-14-07 to incorporate by reference Lycoming Engines Mandatory SB No. 342F, dated June 4, 2010.

Comments

We gave the public the opportunity to participate in developing this AD. We received no comments on the NPRM (76 FR 42609, July 19, 2011).

Conclusion

We reviewed the relevant data and determined that air safety and the public interest require rescinding the AD as proposed.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by rescinding airworthiness directive (AD) 71-13-01, Amendment 39-1231:

71-13-01R1 Lycoming Engines (formerly Textron Lycoming Division, AVCO Corporation): Amendment 39-16909; Docket No. FAA-2011-0691; Directorate Identifier 2011-NE-26-AD.

(a) Effective Date

This AD is effective March 8, 2012.

(b) Affected ADs

This AD rescinds AD 71-13-01, Amendment 39-1231.

(c) Applicability

This AD applies to Lycoming Engines model TIO-540-A series reciprocating engines, with serial numbers lower than 1931-61.

(d) Related Information

For more information about this AD, contact Norm Perenson, Aerospace Engineer, New York Aircraft Certification Office, FAA, Engine & Propeller Directorate, 1600 Stewart Avenue, Suite 410, Westbury, NY 11590; phone: (516) 228-7337; fax: (516) 794-5531; email: Norman.perenson@faa.gov.

(e) Material Incorporated by Reference

None.

Issued in Burlington, Massachusetts, on December 29, 2011.
Peter A. White,
Manager, Engine & Propeller Directorate, Aircraft Certification Service.

[FR Doc. 2012-1130 Filed 2-1-12; 8:45 am]

BILLING CODE 4910-13-P